DEPARTMENT OF COMMERCE

National Oceanic and Atmospheric Administration (NOAA)

Marine Protected Areas Center New England Region Public Dialogue Meeting

AGENCY: National Ocean Service, NOAA, Department of Commerce.

ACTION: Notice of public meeting.

SUMMARY: Notice is hereby given of a public meeting concerning the development of a national system of marine protected areas (MPAs) pursuant to Executive Order 13158 (May 26, 2000). The Gulf of Mexico Region Public Dialogue will be held July 18, 2005, 6:30-9 p.m. in New Orleans, Louisiana. This is the third in a series of regional dialogues to be held around the United States to solicit input from the public concerning their views on a national system of MPAs. Additional meetings will be announced and scheduled pending available resources. Refer to the Web page listed below for background information concerning the development of the national system of MPAs. Meeting room capacity is limited to 75 people, and as such interested participants are required to RSVP via the e-mail address (preferable), fax number, or phone number listed below, by no later than 5 p.m. e.d.t. on July 8, 2005. Attendance will be available to the first 75 people who respond.

Those who wish to attend but cannot due to space or schedule limitations can find background materials at the Web page listed below and may submit written statements to the e-mail, fax, or mailing address below. A written summary of the meeting will be posted on the Web site within one month of its occurrence.

DATES: The meeting will be held Monday, July 18, 2005 from 6:30 p.m. to 9 p.m. e.d.t.

ADDRESSES: The meeting will be held at the New Orleans Marriott, 555 Canal Street, New Orleans, Louisiana 70130.

FOR FURTHER INFORMATION CONTACT: Jonathan Kelsey, National System Development Coordinator, National Marine Protected Areas Center, 1305 East-West Highway, Silver Spring, Maryland 20910. (Phone: (301)- 713-3155 ext. 230, Fax: (301) -713-3110); e-mail: mpa.comments@noaa.gov; or visit the National MPA Center Web site at http://mpa.gov/national_system/).

SUPPLEMENTARY INFORMATION: These forums are intended to solicit the public's views regarding the development of a national system of MPAs. All input received via these dialogues, e-mail, or fax will be for the public record and considered in developing a draft proposal for a national system of MPAs. At this preliminary stage in the effort to develop the national system, NOAA does not intend to respond to any comments received via these dialogues, e-mail, fax, or mail. Once a draft proposal is developed for the national system of MPAs, NOAA will publish it in the Federal Register for formal public comment and will subsequently provide a formal response to comments received.

Matters To Be Considered: Executive Order 13158 (May 26, 2000) calls for the development of a national system of MPAs. These forums are intended to solicit the public's views concerning the development of a national system of MPAs. Refer to the web page listed above for background information concerning these dialogues and the development of the national system of MPAs.

Dated: June 9, 2005.
Eldon Hout,
Director, Office of Ocean and Coastal Resource Management.

[FR Doc. 05-11936 Filed 6-16-05; 8:45 am]

BILLING CODE 3510-08-P